DEPARTMENT OF TRANSPORTATION

Office of the Secretary

Notice of Applications for Certificates of Public Convenience and Necessity and Foreign Air Carrier Permits Filed Under Subpart B (Formerly Subpart Q) During the Week Ending March 17, 2006

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2006-24190.

Date Filed: March 14, 2006.

Due Date for Answers, Conforming Applications, or Motion to Modify Scope: April 4, 2006.

Description: Application of ACM AIR CHARTER Luftfahrtgesellschaft (“ACM AIR CHARTER”). requesting a foreign air carrier permit authorizing it to provide charter foreign air transportation of persons, property and mail between any point or points in Germany and any point or points in the United States; and between any point or points in the United States and any point or points in a third country or countries, provided that, except with cargo charters, such service constitutes part of a continuous operation, with or without a change of aircraft, that includes air service to Germany for the purpose of carrying local traffic between Germany and the United States; and other charter between third countries and the United States. ACM AIR CHARTER requests that its application be decided on the basis of written submissions and the Streamlined Licensing Procedures Notice.

Docket Number: OST-2006-24223.

Date Filed: March 16, 2006.

Due Date for Answers, Conforming Applications, or Motion to Modify Scope: April 6, 2006.

Description: Application of Partner Aviation Enterprises d/b/a Empire Airways requesting authority to engage in scheduled passenger operations as a commuter air carrier and proposes to operate casino charter flights between Republic Airport in Farmingdale, NY and Atlantic City International Airport in Atlantic City, NJ, using BAE Jetstream 31 type aircraft.

Renee V. Wright,
Program Manager, Docket Operations, Federal Register Liaison.

[FR Doc. E6-4839 Filed 4-3-06; 8:45 am]

BILLING CODE 4910-62-P